DEPARTMENT OF TRANSPORTATION

Maritime Administration

[Docket Number: MARAD-2000-7246]

Requested Administrative Waiver of the Coastwise Trade Laws

AGENCY: Maritime Administration, Department of Transportation.

ACTION: Invitation for public comments on a requested administrative waiver of the Coastwise Trade Laws for the vessel PUFFIN.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub.L. 105-383 and MARAD's regulations at 46 CFR 388 (65 FR 6905; February 11, 2000) that the issuance of the waiver will have an unduly adverse effect on a U.S.-vessel builder or a business that uses U.S.-flag vessels, a waiver will not be granted.

DATES: Submit comments on or before May 19, 2000.

ADDRESSES: Comments should refer to docket number MARAD-2000-7246. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Pub. L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR 388.

Vessel Proposed for Waiver of the U.S.-build Requirement

(1) Name of vessel and owner for which waiver is requested: Name of vessel: Sailing Vessel PUFFIN. U.S. Documentation Number 697029. Owner: Thomas B. Brener.

(2) Size, capacity and tonnage of vessel: According to the Applicant “PUFFIN is a fractional sloop rigged sailing vessel 35.8 feet in length with a gross registered tonnage of 9 tons pursuant to 46 U.S.C. 14502. She has a 4.8′ draft with a steadying and stable wing keel and a flush deck. She would carry no more than 6 paying passengers.”

(3) Intended use for vessel, including geographic region of intended operation and trade. According to the applicant: “My own approach to the teaching of sailing and exploration is specific and is not offered by any other organization or individual in the intended use areas in U.S. East Coast waters from Delaware Bay to Rhode Island and in the Atlantic Waters of South-Central Florida. A day or week aboard “PUFFIN” will be an experience that combines the discovery of new places, fish, plants, animals and birds with the sense of sailing and the feel of the elements. It is my hope to be able to open up new vistas for anyone, including the physically challenged, the deaf and the blind. This particular vessel is an ideal vessel for the purposes of teaching sailing through feel and touch. She is a non-polluting, stable, small, shallow draft sailing platform capable of a long run offshore for those who may want to see a bird migration from a perch in the near coastal Atlantic Ocean. The cost for such an excursion would be about $300 a day including the captain.”

(4) Date and place of construction and (if applicable) rebuilding. Date of construction: 1985, place of construction: Alkmaar, Holland.

(5) A statement on the impact this waiver will have on other commercial passenger vessel operators. According to the applicant: “My own approach to the teaching of sailing and exploration is specific and is not offered by any other organization or individual in the intended use areas in U.S. East Coast waters from Delaware Bay to Rhode Island and in the Atlantic Waters of South-Central Florida.”

(6) A statement on the impact this waiver will have on U.S. shipyards. According to the applicant: “Given that this will be a small private enterprise working, at times, in conjunction with not-for-profit concerns that would be performing a service that historically provides a very small financial return; there will be no impact on U.S. shipyards. U.S. production shipyards to not manufacture a vessel such as “PUFFIN” and the market for such a vessel is very small, possibly non-existent. The cost to build a similarly equipped vessel based on the attached survey would be $190,000. Given that the estimated return would net less than $15,000 per year after expenses, there is clearly no economic justification to construct a new vessel for this purpose.”

By Order of the Maritime Administrator.
Dated: April 14, 2000.
Joel C. Richard,
Secretary, Maritime Administration.

[FR Doc. 00-9804 Filed 4-18-00; 8:45 am]

BILLING CODE 4910-81-P